DEPARTMENT OF ENERGY

Federal Energy Regulatory Commission

[Project No. 14574-000]

New England Hydropower Company, LLC; Notice of Preliminary Permit Application Accepted for Filing and Soliciting Comments, Motions To Intervene, and Competing Applications

On December 18, 2013, the New England Hydropower Company, LLC filed an application for a preliminary permit, pursuant to section 4(f) of the Federal Power Act (FPA), proposing to study the feasibility of the Union Pond Dam Hydroelectric Project (proposed project) to be located on Hockanum River, in the city of Manchester, in Hartford County, Connecticut. The sole purpose of a preliminary permit, if issued, is to grant the permit holder priority to file a license application during the permit term. A preliminary permit does not authorize the permit holder to perform any land-disturbing activities or otherwise enter upon lands or waters owned by others without the owners' express permission.

The proposed project would consist of the following: (1) An existing 33-foot-high, 590-foot-long earth embankment dam with a 360-foot-long concrete spillway; (2) the existing 50-acre Union Pond with a storage capacity of 515 acre-feet at an elevation of about 142.3 feet above mean sea level; (3) a new 6-foot-high, 8-foot-wide hydraulically-powered sluice gate and a new 6-foot-high, 9-foot-wide trashrack with 6-inch bar spacing; (4) a new 35-foot-long, 11.3-foot-diameter concrete intake canal; (5) a new 56-foot-long, 7.7-foot wide Archimedes screw generator unit with an installed capacity of 122 kilowatts; (6) a new 10-foot-high, 12-foot-long, 18-foot-wide concrete powerhouse containing a new gearbox and electrical controls; (7) a new 90-foot-long, 35-kilovolt above-ground transmission line connecting the powerhouse to Connecticut Light and Power's distribution system; and (8) appurtenant facilities. The estimated annual generation of the proposed Union Pond Dam Hydroelectric Project would be about 575 megawatt-hours. The existing Union Pond Dam and adjacent property are owned by the city of Manchester.

Applicant Contact: Mr. Michael C. Kerr, New England Hydropower Company, LLC, P.O. Box 5524, Beverly Farms, Massachusetts 01915; phone: (978) 360-2547.

FERC Contact: John Ramer; phone: (202) 502-8969.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14574-000.

More information about this project, including a copy of the application, can be viewed or printed on the “eLibrary” link of Commission's Web site at http://www.ferc.gov/docs-filing/elibrary.asp. Enter the docket number (P-14574) in the docket number field to access the document. For assistance, contact FERC Online Support.

Dated: January 8, 2014.
Kimberly D. Bose,
Secretary.

[FR Doc. 2014-00541 Filed 1-14-14; 8:45 am]

BILLING CODE 6717-01-P